DEPARTMENT OF EDUCATION

[Docket ID ED-2021-OESE-0152]

Final Priorities, Requirements, Definitions, and Selection Criteria—Full-Service Community Schools

AGENCY: Office of Elementary and Secondary Education, Department of Education.

ACTION: Final priorities, requirements, definitions, and selection criteria.

SUMMARY: The Department of Education (Department) announces priorities, requirements, definitions, and selection criteria under the Full-Service Community Schools (FSCS) program, Assistance Listing Number 84.215J. The Department may use these priorities, requirements, definitions, and selection criteria for competitions in fiscal year (FY) 2022 and in later years.

DATES: These priorities, requirements, definitions, and selection criteria are effective August 12, 2022

FOR FURTHER INFORMATION CONTACT: Jane Hodgdon. U.S. Department of Education, 400 Maryland Avenue SW, Room 3E346, Washington, DC 20202. Telephone: (202) 453-6620. Email: FSCS@ed.gov.

If you are deaf, hard of hearing, or have a speech disability and wish to access telecommunications relay services, please dial 7-1-1.

SUPPLEMENTARY INFORMATION: The Department intends these priorities, requirements, definitions, and selection criteria to support competitions under the FSCS program for the purpose of awarding grants to projects in different stages of development, from capacity building to scaling full-service community schools approaches where the community and education leadership are ready to scale. These stages represent points of entry at the local, district, regional, and State levels to strategically scale the community school approach based on the readiness of the consortium applying for the grant.

Purpose of Program: The FSCS program, established under sections 4621-4625 of the Elementary and Secondary Education Act, as amended (ESEA), provides support for the planning, implementation, and operation of full-service community schools that improve the coordination, integration, accessibility, and effectiveness of services for children and families, particularly for children attending schools with concentrated poverty, including rural schools.

Program Authority: Sections 4621-4625 of the ESEA, 20 U.S.C. 1771-7273, 7275.

We published a notice of proposed priorities, requirements, definitions, and selection criteria for this program in the Federal Register on January 12, 2022 (87 FR 1709) (the NPP). That document contained background information and our reasons for proposing the priorities, requirements, definitions, and selection criteria.

Public Comment: In response to our invitation in the NPP, 43 parties submitted comments pertinent to the proposed priorities, requirements, definitions, and selection criteria. We discuss substantive issues under each priority, requirement, definition, or selection criteria to which they pertain. Generally, we do not address technical and other minor changes or suggested changes the law does not authorize us to make. In addition, we do not address comments that are outside the scope of the proposed priorities, requirements, definitions, and selection criteria.

Analysis of Comments and Changes: An analysis of the comments and of any changes in the priorities, requirements, definitions, and selection criteria since publication of the NPP follows.

Proposed Priority 1—Capacity Building and Development Grants.

Comments: Among the 15 comments related to Proposed Priority 1, all expressed overall support for the importance of and need for the priority.

Six commenters recommended revisions to Proposed Priority 1, including striking the word “sustain” to better reflect that this priority is focused on building grantee capacity and the initial development of full-service community schools. Six commenters suggested that the Department clarify that the needs assessment could be done during, rather than before, the grant period. Two commenters recommended that we designate Priority 1 as an absolute priority, and three suggested that we set the grant period at 3 years. One commenter recommended that the Department reduce the funding available for Priority 1 grantees, which in FY 2019 was established at $500,000 per year for 5 years, at total of up to $2.5 million for the full grant period. One commenter requested that we clarify that a grantee can scale beyond the two schools required in Priority 1. One commenter suggested that Priority 1 should emphasize civic learning and development of civic knowledge and skills. Another commenter suggested that the Department require asset mapping as part of the needs assessment, as well as a clear plan for how the grantee will engage and collaborate with families. Another commenter suggested the Department encourage projects that approach capacity building and development of programs holistically, including through collaboration and integration with early childhood education providers such as Head Start.

Discussion: The Department appreciates the support for the proposed priority and concurs that the purpose of Priority 1 is to encourage grantees to begin the work to develop full-service community schools. As such, the Department clarifies that the needs assessment can be completed during the grant period and will eliminate the word “sustain” from the description.

The Department acknowledges the importance of a comprehensive, collaborative, equitable, accessible, culturally competent, and inclusive approach to completing a holistic and individualized needs assessment that considers community assets and engages a wide and representative range of participants, including families and early childhood educators such as Head Start providers. We are revising the language of the priority to include extensive community engagement as part of the development and coordination activities in Priority 1. The Department declines to require applicants to conduct asset mapping because the term is not used in section 4625(a)(4) of the ESEA and we want to maintain maximum flexibility for applicants. Additionally, nothing in the priority prevents an applicant from conducting asset mapping. Pillar 3 of the FSCS requirements includes active family and community engagement, and we are revising the definition of a broadly representative consortium to include student, family, and community voices. The Department thinks that the activities outlined in Pillar 3, which specifies that the school provides centralized supports for families and communities, which may include citizenship preparation, allows for a wide variety of activities. We appreciate the specific ideas about the organizations, individuals, and activities an applicant or grantee might engage in their plans to develop a full-service community school; maintaining the broad language in the priority, however, will allow for additional ideas.

The Department appreciates the interest in distinguishing Priority 1 as an absolute priority that is focused on development and capacity building, including the recommendation to rename the priority to reflect that focus, reduce the grant period to 3 years, and reduce the level of funding for awards. Regarding the duration of FSCS grants, section 4623(b) of the ESEA establishes that “a grant awarded under this subpart shall be for a period of not more than 5 years, and may be extended for an additional 2 years.” Applicants may propose shorter project periods, but the Department thinks it is important to allow applicants, including applicants that are building capacity and developing a full-service community school, with sufficient time to plan, develop and implement their project. A longer period of performance will also reduce the administrative burden on applicants by reducing the frequency of applications. As such, we decline the suggestion to shorten the length of the grant. The designation as an absolute, competitive preference, or invitational priority is established through the notice inviting applications (NIA).

Section 4625(e) of the ESEA requires that FSCS grantees use their awards to coordinate three or more existing pipeline services and provide a minimum of two additional services at two or more public elementary or secondary schools. Given the statutory requirement that grantees coordinate existing services and provide additional services during their grant period, all FSCS grantees are required to implement a minimal number of full-service community schools' activities. The Department intends to reflect this requirement in the NIA and by maintaining the current title of the priority, Capacity Building and Development Grants. The priority allows for applications that propose to serve more than two schools, but we think the language that a grantee implement a full-service community school in “two or more schools” is sufficiently clear.

Changes: We have revised Priority 1 by eliminating the word “sustain” and clarifying that the needs assessment can be completed during the grant period. We have added that initial development and coordination activities include extensive community engagement. We discuss below our changes to definitions, including the change to the definition of the Pillars of Full-Service Community Schools to ensure that student, family, and community voice are included.

Priority 2—Multi-Local Educational Agency Grants.

Comments: Many commenters strongly supported a priority that expands implementation of full-service community schools beyond two school sites and into local educational agencies (LEAs). Seven commenters recommended that the Department retitle the priority to use the term “Implementation Grants” and include the expectation that grants awarded under this priority would be sustained beyond Federal funding. Further, one commenter requested that the Department clarify that funding under Priority 2 expand and sustain community schools within an LEA. An additional commenter proposed that the Department clarify that a grantee can expand to additional schools beyond the two required by section 4625(a)(3) of the ESEA.

Four commenters recommended that Priority 2 require no more than one LEA, while three other commenters offered support for the inclusion of two or more LEAs, noting that the requirement that two or more LEAs work together benefits small and rural LEAs. Eight commenters requested that the Department revise the requirement that the LEAs be located in the same State, noting that in many places, including rural, remote and Tribal places, community identity is not limited by the legal boundaries of a State.

One commenter requested that the Department clarify that the eligible applicants under this priority include those outlined in section 4622(1)(B) of the ESEA—which is a consortium of one or more LEAs or the Bureau of Indian Education (BIE) and one or more community-based organizations, nonprofit organizations, or other public entities—and that funds be reserved or designated for primary applicants that are not LEAs. One commenter suggested that the Department provide a comprehensive list of expanded learning professionals for all LEAs and allow for local flexibility for each school to choose those that best meet the needs of their community. One commenter did not support Priority 2 because unitary systems, such as Hawaii and Puerto Rico, would be ineligible under this priority.

Discussion: The Department appreciates the support for Priority 2 and the design to scale development of full-service community schools into further implementation across two or more LEAs. Because Priority 1 also requires that grantees develop and begin implementation of the full-service community school model, including an allowance for use of funds for planning in year one, we decline the suggestion to retitle Priority 2; however, although no revisions to the priority are required, we agree that grantees should plan how they will sustain their work in additional schools and LEAs. In response to the concern that applicants and grantees can expand support to additional schools beyond the statutorily required two schools, the Department is adding language requiring eligible entities to “coordinate and provide services at two or more full-service community schools.” The Department agrees that it is important to clarify that, under Priority 2, two or more community schools would be implemented in each LEA.

We appreciate the considerations of several commenters that implementing a community school approach across a single system, such as a single LEA, is sufficiently complex. However, we think that the distinction of working in no fewer than two LEAs is an important indicator of scaling the model. We also appreciate the considerations of small and rural LEAs who expressed that working in partnership with one or more additional LEAs supports their implementation of the model. The Department acknowledges that community identity often transcends official State boundaries and that, in some places, including rural and Tribal areas, it may be appropriate for the two or more LEAs to be located in different States, and thus, we are eliminating that requirement from Priority 2.

Regarding the request that the Department consider reserving funds under Priority 2 for nonprofit-led consortia, we think individual communities and applicants are best positioned to determine the makeup of their consortium. As such, we decline to require Priority 2 applications to be led by nonprofits or that a portion of funding be reserved for nonprofit-led consortia; however, we are adding language to clarify that eligible applicants are consortia that include LEAs or the BIE and nonprofit organizations. The Department appreciates the suggestion that each LEA be provided with a list of expanded learning professionals, but we know that individual communities are best positioned to assess the resources and potential partners that can address the needs and supplement the assets identified in the development of their full-service community schools. As such, we will not provide a list of expanded learning professionals to LEAs. While unitary systems where the State Educational Agency (SEA) is also the LEA would not be eligible to apply under Priority 2, those entities would be able to apply under Priorities 1 and 3. Further, the NPP included a citation within Proposed Priority 3, which stated that the District of Columbia, Hawaii, and Puerto Rico may apply for Statewide grants, as does the text of Final Priority 3 included in this NFP. This clarification is also included in the NIA.

Changes: The Department has revised Priority 2 to require that an applicant implement and sustain the model in two or more schools and in two or more LEAs. The language of the priority clarifies that eligible applicants are consortia that include, and may be led by, community-based organizations, nonprofit organizations, or public or private entities. The Department has eliminated the language in the priority that the two or more LEAs are located in the same State. Upon our internal review, we also added an exception for LEAs that oversee a single school—to the requirement to coordinate and provide services at two or more full-service community schools in each LEA—in recognition that some small, rural or charter school LEAs may only serve a single school.

Priority 3—State Scaling Grants.

Comments: The Department received numerous comments that support Priority 3's focus on scaling the full-service community school at the statewide level. Three commenters requested that the Department clarify that eligible applicants under Priority 3 are those outlined in section 4622(1)(B) of the ESEA. Four commenters proposed that the Department require that the SEA apply as part of the required consortium, or that the consortium include documentation from the SEA, in the form of a letter of support, outlining the SEA's commitment to and partnership with the consortium.

Two commenters proposed that the Department require, as a condition of eligibility, that States identify or establish a State steering committee that represents community schools stakeholders, including educators and other school staff, community school initiative leaders, education union or association designees, family leaders participating in community school programs, community partners, and community school coordinators from schools already implementing community schools in that State and that, in addition to serving as an advisory committee, also has the authority to make decisions about the design, implementation, and evaluation of State efforts for the grant. One commenter suggested that the Department require each grantee under Priority 3 to provide clear and consistent guidance for identifying LEAs, including the establishment of a minimum set of criteria so that the LEAs most in need are considered.

Five commenters requested that the Department remove the requirement that six or more LEAs participate in a grant under Priority 3; two commenters suggested that the Department require a percentage of the State's LEAs to participate, making the requirement more consistent across States with large and small numbers of LEAs. Several commenters recommended that funding available be commensurate with the number of LEAs included in a grant.

Two commenters requested that the Department clarify that an applicant's receipt of a grant in partnership with an SEA does not preclude other applicants in the State from receiving an award under a separate priority. Two commenters shared that they do not support Priority 3, including one commenter who declined to support the priority because, in their reading, unitary systems such as Hawaii and Puerto Rico would be ineligible.

Discussion: The Department appreciates the support for scaling full-service community schools to the State level, as well as the suggestions commenters provided. In response to the request that the Department reaffirm the eligible applicants under the FSCS program, we recognize that the eligible applicants are established in section 4622(1)(B) of the ESEA; therefore, the Department cannot make changes that would allow or require the SEA to be a lead applicant. The Department further agrees that the State scaling envisioned in Priority 3 makes SEA involvement and commitment critical to successful implementation and scaling; SEA commitment must be demonstrated through the FSCS-required memorandum of understanding (MOU). The Department appreciates the insights of commenters regarding the need for and benefit of a statewide steering committee that can support implementation and scaling, including selection of participating LEAs. However, the Department thinks that applicants and grantees, working with their partners, including Tribal partners, the broadly representative consortium (as defined in this notice) and the statewide steering committee are best positioned to determine the process for selecting LEAs under Priority 3. Regarding the concern that selected LEAs have demonstrated need, section 4625(b) of the ESEA prioritizes schools eligible for a schoolwide program under section 114(b) of ESEA.

The Department acknowledges the concerns that Priority 3 not set a minimum of participating LEAs and recognizes that there is wide variation in the number of LEAs and the number of schools within LEAs, across States. We agree that requiring a percentage of LEAs in the State would be a more equitable approach to scaling the model. However, the Department is interested in funding applications that propose to work with their partners to develop, implement, evaluate, and sustain full-service community schools at a level, and in a percentage of LEAs and schools, across the State that will effectively scale the model statewide and are addressing this through revisions to the selection criteria. The Department will take into consideration the request that funding be made commensurate with the number of LEAs, and number of schools within those LEAs, that will be served, but funding levels are established in the NIA.

The Department also recognizes the concern that a grant awarded under Priority 3 might inhibit submission of additional applications in that State under other priorities, and we will clarify through pre-application technical assistance that multiple awards can be made in a State provided that funded activities do not overlap. The Department also understands the concern of unitary systems where the SEA is also the LEA; however, the NPP included a citation under Proposed Priority 3 with the clarification that “DC, HI, and PR may apply for Statewide grants.” The final priority includes the same clarification.

Changes: The Department has revised Priority 3 to require that the SEA document its commitment to the consortia and implementation of the grant, if awarded, through the required MOU. Additionally, the Department is requiring, under Priority 3, that the applicant commit to establishing a State steering committee. Finally, the Department has revised the requirement from six or more LEAs to a requirement that the applicant, in partnership with the SEA, determine the percentage of LEAs in the State that will develop, support, and expand full-service community schools over the 5-year grant performance period. We have included a selection criterion that will be used to assess the applicant's proposal to scale the FSCS model at the statewide level, including recommendations for considering the percentage of LEAs proposed when awarding points. Upon our internal review, we also added language recognizing that some small, rural, tribal, or charter school LEAs may only serve a single school.

Proposed Priority 4—Participation in a National Evaluation.

Comments: Of the 19 comments received related to Priority 4, most expressed concern about use of a randomized controlled trial evaluation design for the program. Two commenters supported the model.

Six commenters objected to the national evaluation's randomized controlled study design. Five commenters encouraged the Department to use a different study design (such as various quasi-experimental designs) rather than a randomized controlled trial. One commenter expressed doubt that the national evaluation could control what was happening in the group of schools that would not receive funding.

Six commenters objected to the Department not funding every interested and eligible school under the randomized controlled trial study design.

There were six comments related to the data collected by the national evaluation. Four commenters recommended that the national evaluation require collection of specific quantitative and qualitative data aligned with the Full-Service Community Schools theory of action and its intended outcomes. One commenter asked how the Department will ensure that the outcomes measured go beyond test scores and include outcomes such as student physical and mental health and a range of key non-cognitive competencies, such as social and emotional learning and increased sense of safety and well-being. One commenter encouraged the Department to consider the baseline attributes and inputs of the community and include the experiences and perspectives of students, families, teachers, community partners, and stakeholders.

Six commenters encouraged the Department to establish a technical advisory group to advise on the best approach to the national evaluation. One commenter suggested specific candidates to participate in such a group. There were four comments related to implementation of full-service community schools looking different across schools because the strategy is specific to the needs and assets of individual communities and schools.

Two commenters indicated concern about how the lack of consistent services and activities could be captured in a randomized controlled trial. One commenter believed that it would be difficult to ascertain common practices across grantees that are most helpful for practitioners and policymakers to understand and advance. One commenter asked how the national evaluation will account for schools placing varying levels of emphasis on specific outcomes based on the characteristics of the student populations and communities they serve.

Two commenters encouraged the Department to make participation in the national evaluation mandatory through the use of an absolute priority, stating that it would ensure that the sample size is sufficiently large and representative of grantees. One commenter pointed out that if only some of the grantees participate in the evaluation process, findings are limited and may not be representative or inclusive, and the opportunity to learn about the impacts of the program in different communities may be missed.

Two commenters objected to the proposed requirement that applicants nominate four schools to receive program funding. In particular, this requirement could exclude smaller districts, which would limit the generalizability of the findings. It could also exclude larger districts that do not have at least four schools that are not fully implementing the four pillars of the community schools model.

One commenter asked for clarification on how the data collected under the national evaluation would be used. One commenter asked what the national evaluation will assess and how the results will be shared. One commenter encouraged the Department to adopt an equity-based approach to the national evaluation, in partnership with community members.

Seven commenters recommended that the Department require each grantee to conduct a third-party local evaluation. Those commenters encouraged the Department to require both quantitative and qualitative data that may include, but not be limited to, student chronic absenteeism rates; student discipline rates, including suspensions and expulsions; school climate information, which may come from student, parent, or teacher surveys; provision of integrated student supports and stakeholder services; expanded and enriched learning time and opportunities; family and community engagement efforts and impact; information on the number, qualifications, and retention of school staff, including the number and percentage of fully certified teachers, disaggregated by race and ethnicity, and rates of teacher turnover; graduation rates; changes in school spending information; collaborative leadership and practice strategies, which may include building the capacity of educators, principals, other school leaders, and other staff to lead collaborative school improvement structures, such as professional learning communities; regularly convening or engaging all initiative-level partners, such as LEA representatives, city or county officials, children and youth cabinets, nonprofit service providers, public housing agencies, and advocates; regularly assessing program quality and progress through individual student data, participant feedback, and aggregate outcomes to develop strategies for improvement; and organizing school personnel and community partners into working teams focused on specific issues identified in the needs and assets assessment.

Discussion: The Department appreciates the comments, concerns, and support shared by the field regarding a national evaluation of the FSCS program and we are committed to working with grantees and other stakeholders to design and implement the national evaluation required under section 4625(f) of the ESEA. To allow more time to conduct outreach with the field, the Department is not going to begin the national evaluation with the FY 2022 grant competition.

The Department recognizes the potential benefit of requiring each grantee to partner with a local independent evaluator to study each grant award separately and support ongoing program improvements during the grant period. Such a local evaluation would not be in place of a national evaluation. As noted above, the authorizing legislation for the FSCS program requires a separate national evaluation that examines the effects of the grant program as a whole.

The Department has not included the Participation in the National Evaluation priority in these final priorities but will continue to consider the national evaluation priority and the related comments. We will also conduct additional outreach to the field to gather and discuss recommendations for developing a robust national evaluation of the program and its grantees and to address some of the concerns raised. If we decide to finalize the national evaluation priority, the Department will summarize and respond to the comments in a separate NFP for that priority.

Additionally, the Department will build upon the ESEA requirement that grantees conduct annual evaluations, use those evaluations to refine and improve activities carried out, and make results of such evaluations publicly available, by adding a requirement that grantees contract for a third-party independent evaluation to meet the FSCS local evaluation requirements.

Changes: The Department has not included the Participation in the National Evaluation priority in these final priorities but will continue to consider the national evaluation priority and the related comments. Additionally, the Department will build upon the ESEA requirement that grantees conduct annual evaluations, use those evaluations to refine and improve activities carried out, and make results of such evaluations publicly available, by including a requirement that grantees contract for a third-party, external independent evaluation to meet the FSCS local evaluation requirements.

Proposed Priority 5—Evidence-Based Integrated Student Supports.

Comments: Four commenters expressed that they do not support Proposed Priority 5 and requested that it be eliminated. Commenters expressed concern that the priority is duplicative of the requirement that applicants address integrated student supports under the pillars of community schools. Many of those same commenters also noted that the proposed selection criteria evaluate applications on the “extent to which the design of the proposed project reflects relevant and evidence-based findings from existing literature and includes a high-quality plan for project implementation integrating the pillars of full-service community schools.” Two commenters supported the inclusion of the priority because they agree with the importance of strong evidence to ensure effective programs; one of those commenters noted the importance of clarifying that the term “evidence-based” has the meaning provided in the ESEA. Two commenters recommended that the Department clarify what is meant by integrated student supports. Three commenters expressed support for this priority, including one commenter who recommended it be used as a competitive preference priority.

Discussion: The Department appreciates the comments and suggestions provided, which make evident that the intention behind the priority, to encourage applicants and grantees to incorporate evidence-based models of integrated supports that identify and address the comprehensive needs of individual students into their community school initiatives, was not clearly communicated. We recognize that the use of the term “integrated student supports” in Proposed Priority 5, as well as the proposed requirement and definition of the four pillars of community schools, may be confusing for applicants. In response to comments supporting the use of evidence-based activities and requests for confirmation that the definition is consistent with ESEA, the Department acknowledges that Section 4625(b)(2) of the ESEA prioritizes evidence-based activities in the FSCS program and cites the definition included in the ESEA.

In order to encourage applicants and grantees to incorporate evidence-based models of integrated supports that identify and address the comprehensive needs of individual students into their community school initiatives, the Department will consider inclusion of applicable priorities from the Secretary's Supplemental Priorities published in the Federal Register on December 10, 2021 (86 FR 70612) (Supplemental Priorities).

Changes: In recognition of the potential for confusion in using the term “integrated student supports” in Proposed Priority 5 and Requirement 1, and that the information may appear to be duplicative, the Department has not included Proposed Priority 5—Evidence-Based Integrated Student Supports in these final priorities.

Additional Priorities

Comments: A number of commenters suggested additional priorities for the FY 2022 FSCS program. Of those commenters, four requested that the Department include a competitive preference priority for applicants serving rural communities or schools. One of these commenters requested a priority for Tribal partners or applicants from rural or remote areas.

A number of commenters expressed concern that grant resources and activities may not be focused on schools, students, and communities of greatest need. Of the 12 comments related to directing services and grants to those of greatest need, 10 recommended that the Department add selection criteria related to need and one proposed that the Department add a priority for providing services to low-income families.

Six commenters encouraged the Department to more explicitly connect community school supports to classroom instruction and learning. Two commenters referenced the science of learning and development and recommended the FSCS program emphasize a whole child or whole learner approach. One commenter suggested that the FSCS program include a focus on schoolwide culture, including use of trauma-informed practices and adoption of disciplinary procedures and practices that are holistic and nondiscriminatory.

One commenter recommended that the Department develop a competitive priority for applicants who have made structural changes to support community schools, applicants who have plans to develop and utilize shared data systems, and previous or current Promise Neighborhoods grantees.

Two commenters suggested that, because the success of a full-service community school relies on strong cross-agency collaboration, the Department consider using as a competitive preference priority the Secretary's Supplemental Priority 6—Strengthening Cross-Agency Coordination and Community Engagement to Advance Systemic Change.

Discussion: The purpose of the FSCS program is to provide support for the planning, implementation, and operation of full-service community schools, particularly for children attending schools, including rural and tribal schools, with high rates of poverty. Additionally, the authorizing legislation requires that not less than 15 percent of grant funds be awarded to eligible entities that propose to carry out activities in rural areas.

The legislation that authorizes FSCS requires the Department to prioritize both high-poverty and rural schools. Section 4625(b) of the ESEA requires the Department to give priority to eligible entities that (A) will serve a minimum of two or more full-service community schools eligible for a schoolwide program under section 1114(b), as part of a community- or district-wide strategy; or (B) include an LEA that satisfies the requirements of section 5211(b)(1)(A), (B), or (C); or section 5221(b)(1)(A) and (B). The Department will ensure that all statutory requirements for the program are met.

The Department recognizes that delivery of integrated, accessible, and effective supports in full-service community schools are intended to improve student outcomes, including academic achievement. We agree that full-service community schools should support the whole child and their classroom experience, including support and professional development for educators to ensure the classroom is an environment that allows students to thrive. FSCS schools should also support school leadership, and adoption of practices and frameworks that meet the needs of all learners. The Department has taken these suggestions into consideration as it develops the NIA, which may include related priorities from the Supplemental Priorities. We think the Supplemental Priorities include a number of topics proposed by the commenters, and therefore do not think it necessary to rule-make on program-specific priorities when the Supplemental Priorities are available.

The Department agrees with the comment that organizations that have successfully implemented Promise Neighborhoods grants have revised their school and community structures to improve interagency and cross-sector implementation of shared goals and activities. These organizations use a shared data system to track and measure individual and program progress and are well positioned to successfully implement a FSCS grant. We decline, however, to include these as additional priorities because FSCS is designed to support schools and communities across a continuum of capacity to develop and implement full-service community schools.

The Department concurs that cross-agency coordination at the local level is critical to successful full-service community schools. Further, the Biden-Harris Administration is committed to providing support for comprehensive evidence-based community violence initiatives that bring a cross-agency approach to community violence prevention and intervention. The Department will take these suggestions into consideration as it develops the NIA, which may include related priorities from the Supplemental Priorities.

Changes: None.

Requirements

Requirement 1—Pillars of Full-Service Community Schools

Comments: Among the comments received related to the proposed requirement that projects must describe the pillars of full-service community schools that they have in place or how they will establish these pillars, six expressed overall support for the pillars. Four commenters recommended that the Department provide applicants with examples of the pillars. Another commenter noted that any examples of the pillars should be evidence-based. One commenter suggested the Department provide applicants with workshops on the pillars. One commenter noted that the Department should add that the pillars of community schools must be underpinned by a strong instructional program that incorporates the science of learning and development.

One commenter recommended that the Department clarify that an applicant that is implementing an evidence-based integrated student supports model is meeting the requirement as long as it is working in a school that is addressing all four pillars of a community school.

One commenter recommended that the Department require that schools and districts make an adequate effort to reach students who will most benefit from the supports and require applicants to describe the strategies they will use to ensure the most vulnerable students and families are being reached. A similar comment recommended that the Department explicitly require that applicants collaborate with families.

One commenter recommended that, instead of requiring applicants to describe their work using the framework of the four pillars, they should be required to describe their approach to strategic growth and address how community schools' strategies involve teaching and curriculum in order to reach the ultimate goal of impacting student learning.

Discussion: The Department appreciates that applicants benefit from technical assistance and support throughout the application period and during program implementation. The Department has provided applicants information about the FY 2022 competition in the NIA, published elsewhere in this issue of the Federal Register, and will provide support through pre-application webinars and frequently asked questions.

While the Department is not revising the pillars to include a requirement that schools and districts describe how they will focus on the most vulnerable students and families, the NIA for the FY 2022 competition uses a Supplemental Priority in Competitive Preference Priority 2, to encourage applicants to consider using multi-tiered systems of support that can identify and serve students and families of greatest need.

The Department acknowledges that, while there are a variety of ways to address and frame community schools' practices, we are interested in maintaining a common structure that the pillars provide. The background section of the NPP cites evidence that implementation of the four pillars is associated with a range of positive outcomes for students. Additionally, the background section of the NIA for the FY 2022 competition recognizes that the four pillars are supported by evidence from the science of learning and development and can be used to address the needs of the whole child, including those that the school and community partners determine to be most vulnerable. Use of this common structure allows applicants to develop programs with more fidelity to what has been shown to be effective and prepares the FSCS program and its grantees for a future national evaluation. Applicants are invited to share additional information that can supplement their response to the requirement and discussion of the four pillars, including the applicant's work with families, which is required in the third pillar (Active family and community engagement), use of evidence-based integrated student supports, how those supports address adverse childhood experiences (ACEs), and the applicant's approach to strategic growth. The Department declines to make any changes to the requirement that applicants describe the pillars of full-service community schools.

Changes: None.

Other Requirements

Comments: Several commenters suggested FSCS program requirements in addition to the proposed requirements.

As discussed in connection with Proposed Priority 4, numerous commenters recommended that the Department establish a requirement that grantees work with an external evaluator and adopt a set of recommended measures of success, including student chronic absenteeism rates; student discipline rates, including suspensions and expulsions; school climate information; provision of integrated student supports and stakeholder services; expanded and enriched learning time and opportunities; family and community engagement efforts and impact; information on the number, qualifications, and retention of school staff, including the number and percentage of fully certified teachers, disaggregated by race and ethnicity, and rates of teacher turnover; graduation rates; changes in school spending information; collaborative leadership and practice strategies, including building the capacity of educators, principals, other school leaders, and other staff to lead collaborative school improvement structures, such as professional learning communities; regularly convening or engaging all initiative-level partners, such as LEA representatives, city or county officials, children's cabinets, nonprofit service providers, public housing agencies, and advocates; regularly assessing program quality and progress through individual student data, participant feedback, and aggregate outcomes to develop strategies for improvement; and organizing school personnel and community partners into working teams focused on specific issues identified in the needs and assets assessment.

The Department received five comments requesting that we clarify the roles and responsibilities of consortium partners. Several comments were directed toward proposed selection criteria (d) and evaluation of roles and responsibilities of the broadly representative consortium.

One commenter requested that the Department not consider applications from for-profit charter schools or charter schools within a 25-mile radius of a traditional public school, and that any school receiving funds be subject to the same operational and transparency rules as schools within the district in which it is located.

Discussion: The Department concurs with recommendations to require an independent evaluation of the evaluation activities outlined in section 4625(g) of the ESEA. The Department is also adding a set of indicators recommended through comments that the independent evaluation must use to assess program success. These indicators are aligned with the annual measurable performance objectives included in section 4625(a)(4)(C) of the ESEA.

The Department agrees that it is important to clarify the roles and responsibilities of the eligible entity, defined in section 4622(1)(B) as a consortium of one or more LEAs or the BIE and one or more community-based organization, nonprofit organization, or other public or private entities, as well as the broadly representative consortium, which includes, but is not limited to, the eligible entity submitting the application. Under section 4625(a)(2), an application must include an MOU among all partner entities in the eligible entity that will assist the eligible entity to coordinate and provide pipeline services and that describes the roles the partner entities will assume. Recognizing that the FY 2022 FSCS competition includes priorities for building capacity and developing, implementing, and scaling full-service community schools, and recognizing that section 4625(c) allows grantees to use up to 10 percent of their total award for planning purposes in the first year, the Department thinks it is most appropriate for the application to include a preliminary MOU that establishes the roles and responsibilities of the eligible entity, additional partners, and the broadly representative consortium. At the end of the first year of the grant, FSCS grantees will be required to submit a final MOU.

The Department does not have the authority to revise or refine the eligible applicants specified in section 4622(1)(B) of the ESEA, which means we cannot limit applications from certain charter schools, provided the charter school is an eligible applicant or in partnership with an eligible applicant. All applicants and grantees, including any charter schools, will be required to meet the Federal regulations cited in the NIA.

Changes: The Department has added Requirement 2, which requires applicants to include an independent evaluation to address the evaluation requirements in section 4625(g)) of the ESEA. Within Requirement 2, the Department also established a set of indicators that the independent evaluation must use to assess program success and that are aligned with the required performance measures in section 4625(a)(4)(C).

The Department has added Requirement 3, which requires applicants to submit a preliminary MOU as part of their application. Within Requirement 3, the Department established the content that the preliminary MOU must include, which is aligned with the requirements in section 4625(a)(2). At the end of the first year of the grant, grantees are required to submit a final MOU, which must also align with the requirements in section 4625(a)(2).

Definition—Pillars of Full-Service Community Schools

Comments: The Department received sixteen comments in support of the definition of the Pillars of Full-Service Community Schools.

Within the definition, one commenter recommended the Department provide more clarity regarding research-based elements of effective practices for implementing integrated student supports in pillar (A), Integrated student supports.

Three commenters suggested that we revise pillar (C), Active family and community engagement, to include additional activities for ensuring community and family engagement. One commenter recommended that, in the definition, we address citizenship preparation to reflect the civic mission of schools and leverage their unique role in engaging families and communities.

Ten commenters recommended that the Department revise pillar (D), Collaborative leadership, to expressly include student, family, and community voice. Another commenter recommended that we specify that “expanded and enriched learning time and opportunities” must be culturally rooted and sustaining.

One commenter suggested that we specify in the pillars that providers, teachers, and community school personnel should be representative of the students and communities they serve and that representation should be a focus throughout the program because this enhances staff and leadership understanding of local community context.

One commenter suggested that we include in the definition references to whole learner and trauma-informed approaches.

Discussion: We think the activities outlined in the first pillar, (A) Integrated student supports, are sufficiently broad to allow for applicants and grantees to address the issues of greatest relevance to their community and that there is no need to establish a separate definition of “integrated student supports.” The Department agrees that use of evidence-based practices is critical across all pillars, which is reflected in the language of the second pillar, (B) Expanded and enriched learning time and opportunities, through evidence-based strategies. This notice also includes selection criteria that will assess extent to which the design of the proposed project reflects relevant and evidence-based findings.

We decline to include specific examples of citizenship preparation because we think that, as written, the priority would allow such a focus, and we think it is better to give applicants and schools flexibility to address community-specific needs. However, we agree that the definition of the third pillar, Active family and community engagement, should be expanded to include employment opportunities and other supportive services for adults.

Activities implemented under the second pillar, Expanded and enriched learning time and opportunities, may be culturally rooted and sustaining. The Department thinks that, as written, the priority would allow such a culturally competent focus, and we think it is better to allow applicants and schools flexibility to address community-specific needs.

Regarding recommendations related to the third pillar, (C) Active family and community engagement, the Department agrees that students and families benefit from working with leaders and service providers who have shared backgrounds and experiences. The Department also appreciates the need to have community members participate in the development of the program at all levels, including through participation in the broadly representative consortium to enhance cultural competency. While this is an important goal, it may not be practical for a grantee to ensure all staff and service providers are from or representative of the community. Rather, the FSCS program places emphasis on family and community inclusion in decision-making processes, including decisions related to selection of evidence-based, expanded, and enriched learning time and opportunities. The Department agrees that schools, and community schools in particular, can serve as resources for parents and communities to advance personal and communal goals, which may include civic engagement.

The Department agrees with the suggestions for including student, family, and community voice in the fourth pillar, (D) Collaborative leadership.

The Department recognizes the benefit of bringing a whole learner- and trauma-informed approach to working with students and families in a holistic way in order to prevent, intervene, and mitigate ACEs. We have incorporated those terms in the definitions of pillars of community schools; applicants may consider inclusion of those approaches in their development and implementation of full-service community schools, including through responding to any Secretary's Supplemental Priority included in the NIA.

Changes: The Department has revised the language of the definition of Pillars of Full-Service Community Schools to include trauma-informed services to prevent, intervene and mitigate ACEs as part of integrated student supports. The Department has included adult employment opportunities and other supportive services in the third pillar, (C) Active family and community engagement; and student, family, and community voice is included in the fourth pillar (D) Collaborative leadership practices.

Definition—Broadly Representative Consortium

Comments: One commenter recommended that the Department revise selection criteria (d) to include family leadership in the broadly representative consortium.

Discussion: The Department thinks including organizations that can represent family leadership is a critical addition to the broadly representative consortium; however, we think the change is more appropriate for the definition of the term rather than the selection criteria.

Changes: The Department has revised the definition of “broadly representative consortium” to include organizations that represent families and family leadership.

Other Definitions

Comments: A few commenters suggested other terms for the Department to define. One commenter noted that there are many definitions of “community” and recommended that the Department include a definition for a “full-service community school.”

Two commenters recommended that the Department define “full-service community school coordinator,” a term used in the proposed selection criteria.

One commenter requested that the Department include a definition for “student success coaches,” an evidence-based model for working with and providing comprehensive supports for students.

Discussion: The Department acknowledges that there are many definitions of “community.” For the purposes of the FSCS program, section 4622(2) of the ESEA defines a “full-service community school” as a public elementary or secondary school that (A) participates in a community-based effort to coordinate and integrate educational, developmental, family, health, and other comprehensive services through community-based organizations and public and private partnerships; and (B) provides access to such services in school to students, families, and the community, such as access during the school year (including before- and after-school hours and weekends), as well as during the summer. The Department will include this definition of a full-service community school in the NIA.

Although proposed selection criteria (d) indirectly described the role of the full-service community school coordinator, the Department agrees that it would be helpful to expressly define “full-service community school coordinator,” and we are adding a definition that describes this role in a manner consistent with selection criteria (d).

While the Department appreciates the positive outcomes that have been documented with the use of student success coaches, we do not include definitions for specific activities or approaches that a grantee might choose to include in their application because we want grantees to have the flexibility to choose the best evidence-based approaches to meet student and community needs.

Changes: The Department has defined “full-service community school coordinator.”

Selection Criteria—(c) Ensure Diversity of Perspectives

Comments: Commenters offered broad support for this selection criterion. Two commenters requested that the Department include children and youth in the list of constituencies referenced. An additional commenter suggested the Department revise the selection criterion to include the perspectives of racially diverse families and traditionally marginalized families.

Discussion: The Department appreciates the support of those who offered comments. The Department considers children, students, and youth as beneficiaries of services, but we recognize that other intended beneficiaries are included in the list of constituencies and are adding students and youth. The Department further agrees that it is important for an applicant to include, or have a plan to include, the perspectives of racially diverse families, those that have been marginalized, and other underserved individuals in the community; however, we think that the broad nature of the selection criterion allows applicants to include racially and otherwise diverse families in their design and operation of the proposed project. Additionally, the Department thinks that grantees may use the allowable planning time during year one of the grant to engage with families and other groups who have not been consistently represented in assessments of needs and assets as well as leadership.

Changes: We have renumbered selection criterion (b) as selection criterion (c) and revised to include students and youth as constituents whose perspectives should be brought to bear in the design and operation of the projects.

Selection Criteria—(d) Plans for Full-service Coordinator

Comments: Commenters supported inclusion of a selection criterion to assess grantee plans for a full-service community schools coordinator. Because a full-service community school coordinator is not responsible for the delivery of the pipeline of services offered, four commenters recommended that we clarify the language of the criterion by removing “deliver pipeline services” and replacing it with “facilitate programs and partnerships.” Several commenters also recommended including that the full-service community school coordinator “lead a comprehensive needs and asset assessment that includes students, school staff, families, community members and partners.”

Four commenters noted that the requirement for a full-time full-service community school coordinator does not reflect the diverse communities that may apply or receive a grant, including some rural communities where a full-time coordinator is not needed.

Discussion: The Department appreciates the comments and recommendations. We agree with the clarification offered and are revising selection criterion (d) to better reflect a full-service community school coordinator's responsibilities to facilitate programs and partnerships. While the full-service community school coordinator may, in some cases, lead the needs assessment, the Department recognizes that not all communities will expect the coordinator to lead that work. As such, we decline to include that edit.

The Department appreciates that each community and its needs are unique; however, section 4625(a)(4)(E) of the ESEA requires that each full-service community school site has a full-time coordinator.

Changes: The Department has renumbered proposed selection criteria (c) to final selection criteria (d) and revised selection criteria (d) to replace “deliver pipeline services” with “facilitate programs and partnerships.”

Selection Criteria—(e) Consortium Broadly Representative of Community

Comments: While commenters support the inclusion of proposed selection criterion (e), two commenters noted that some applicants may not yet have a consortium in place and should not be penalized. Those commenters recommended that the Department revise the language to say, “the extent to which the grantee has, or demonstrates a strong plan to have, a consortium broadly representative of community stakeholders and needs.”

One commenter proposed that the broadly representative consortium representative of community stakeholders and needs should also have a role in the oversight and management of the program, including the selection of schools. The commenter suggested the selection criteria be revised to say, “the extent to which the grantee has a consortium broadly representative of community stakeholders and needs that informs the school selection process, operations and continued oversight of the project.”

One commenter recommended that applications be assessed on the extent to which they have planned for open, consistent, and actionable communication among their consortia.

Discussion: The Department will make FSCS awards to some applicants who will engage in capacity building and development of full-service community schools. As such, we concur that not all applicants will have an established broadly representative consortium and are editing the selection criterion.

The Department concurs that applications and grant programs are strengthened through defined roles and responsibilities of leadership groups, such as the broadly representative consortium. Section 4625(a)(2) of the ESEA requires an MOU among all partner entities in the eligible entity that will assist the eligible entity to coordinate and provide pipeline services and that describes the roles the partner entities will assume, which includes the broadly representative consortium and, for applications submitted under Priority 3, the statewide steering committee. The Department thinks that inclusion of a preliminary MOU with the application can further delineate communication and decision-making processes, such as school selection. The Department declines to include school selection as a role of the broadly representative consortium in the final selection criteria because we want to maintain maximum flexibility for applicants. Additionally, nothing in the NFP prevents an applicant from including school selection as a responsibility of the broadly based consortium.

Changes: The Department has renumbered proposed selection criterion (d) to final selection criteria (e) and revised selection criterion (e) to allow for an applicant to demonstrate a plan to develop and put into place a broadly representative consortium and included language that the roles and responsibilities of the consortium are outlined in the required preliminary MOU. For applications submitted under Priority 3, the Department revised selection criterion (e) to allow for an applicant to demonstrate a plan to develop and put into place a broadly representative consortium and a statewide steering committee, and included language that the roles and responsibilities of the consortium and statewide steering committee are outlined in the preliminary MOU.

Selection Criteria—(f) Demonstrates History of Effectiveness

Comments: One commenter suggested the selection criteria be expanded to include a description of the applicant's history of working with a wide range of stakeholders—including students and families—in inclusive and equitable ways.

One commenter recommended that we expand this selection criterion to consider the applicant's history of effectiveness in serving both current and past students in addition to the wider community.

Discussion: The Department agrees that it is important that an applicant's history of effectiveness (as defined in this notice) includes effectively working with a wide and diverse range of stakeholders, including students and families.

Changes: The Department has renumbered proposed selection criterion (e) as final selection criterion (f) and revised selection criterion (f) to include working with diverse stakeholders, including students and families.

Other Selection Criteria

Comments: The Department received a significant number of comments related to ensuring that grants and services are focused on schools, communities, students, and families of greatest need. Ten commenters recommended that the Department include selection criteria related to need.

Three commenters recommended that the FSCS program use selection criteria from the FY 2021 Promise Neighborhoods NIA. One commenter requested that the Department reinstate previous FSCS selection criteria for evaluation.

One commenter requested that the Department include selection criteria that allows an applicant to propose using up to 6 months for planning and capacity building activities.

Discussion: The FSCS program is intended to focus on children and youth attending schools with concentrated poverty, including rural and tribal schools. In addition to inclusion of a priority related to schoolwide poverty levels, the Department is adding selection criterion (a) to assess the extent to which the proposed project will provide support, resources, and services, close gaps in educational opportunity, or otherwise address the needs of the targeted population, including addressing the needs of underserved populations most impacted by the issue, challenge, or opportunity to be addressed by the proposed project.

The Department appreciates the suggestions related to aligning the FSCS need criteria with that of the FY 2021 Promise Neighborhood program. However, the FSCS program is designed to allow grantees to use the first year of their grant to conduct a robust assessment of needs and assets, while the Promise Neighborhood program requires the applicant to include an analysis of needs and corresponding activities to address those needs. Therefore, the Department declines to use the FY 2021 Promise Neighborhood selection criteria.

Related to selection criteria for the required evaluation, for the FY 2022 competition, the Department is using criteria from 34 CFR 75.210 to assess the applicant's proposal to evaluate their FSCS project. For the FY 2022 competition, two of the three criteria are from previous FSCS competitions. The evaluation criteria are included in the NIA, published elsewhere in this issue of the Federal Register.

The Department agrees that building a successful full-service community school requires significant planning and capacity building, including time to strengthen partnerships. Section 4625(c) of the ESEA allows a grantee to use up to 10 percent of the total grant award for planning purposes during the first year of the award. This applies to all applicants and grantees, and, as such, the Department will not make any changes to the time that grantees can allocate to planning.

In accordance with 34 CFR 75.209, the Department included in the NIA selection criteria from 34 CFR 75.210 that assesses the quality of an applicant's proposed local evaluation for the FY 2022 competition.

As discussed in Priority 3, the Department agrees that requiring a percentage of LEAs in the State would be a more equitable approach to scaling the model. However, the Department is interested in funding applications that propose to work with their partners to develop, implement, evaluate, and sustain full-service community schools at a level, and in a percentage of LEAs and schools, across the State that will effectively scale the model statewide and are addressing this through revisions to the selection criteria.

Changes: The Department added selection criterion (a) to assess the extent to which a proposed project will provide support, resources, and services; close gaps in educational opportunity; or otherwise address the needs of the targeted population, including addressing the needs of underserved populations most impacted by the issue, challenge, or opportunity to be addressed by the project. The Department also added selection criteria (g) to assess the extent to which the applicant demonstrates its commitment and strategy to scale full-service community schools at the statewide level. In determining the applicant's capacity to scale the proposed project, the Secretary considers the number and percentage of LEAs, and the number and percentage of schools within each LEA, the applicant, the SEA, and other partners propose to serve; the applicant's capacity (e.g., in terms of qualified personnel, financial resources, or management capacity) to further develop, implement, bring to scale and sustain additional full-service community schools in multiple LEAs; and the applicant's capacity to work with others, including the broadly representative consortium and the statewide steering committee, to ensure that the proposed process, products, strategies, or practices can be further developed and brought to scale, based on the regular findings of the proposed project and its independent evaluation.

Final Priorities:

This document contains four final priorities.

Priority 1—Capacity Building and Development Grants.

Projects that propose to (a) conduct initial development and coordination activities, including extensive community engagement, that leverage the findings of their needs assessment—which may be completed during or before the grant period—to develop the infrastructure, activities, and partnerships to implement full-service community schools in two or more schools, and (b) gather data on performance indicators.

Priority 2—Multi-Local Educational Agency Grants.

Projects that propose to implement and sustain full-service community schools in two or more LEAs. As outlined in section 4622(1)(B) of the ESEA, an eligible entity for any FSCS grant is a consortium of one or more LEAs or the BIE and one or more community-based organizations, nonprofit organizations, or other public or private entities. The project must, with the exception of LEAs that oversee a single school, coordinate and provide services at two or more full-service community schools in each LEA.

Priority 3—FSCS State Scaling Grants ¹.

¹ Unitary systems, such as the District of Columbia, Hawaii, and Puerto Rico, may apply for Absolute Priority 4 FSCS State Scaling Grants.

Applications submitted under Priority 3 must include a written commitment of the SEA to participate in the partnership and to sustain the program beyond 2 years after the term of the grant, which can be submitted in the required preliminary memorandum of understanding (MOU) that includes the roles and responsibilities of the SEA and other partners identified at the time of the application. The applicant, in partnership with the SEA, determines the number and percentage of State LEAs, and the number and percentage of schools across those LEAs, that will develop, support, and expand full-service community schools over the 5-year grant performance period.

Applications under Priority 3 must also identify or establish a State steering committee (which may be a previously existing body) that represents relevant community schools' stakeholders, including educators and other school staff, community school initiative leaders, education union or association designees, family leaders participating in community school programs, community partners such as service providers, early childhood education providers such as Head Start, and community school coordinators from schools already implementing full-service community schools in the State. In addition to serving as an advisory committee, the steering committee also has the authority to make decisions about the design, implementation, and evaluation for the grant, which may include identification or selection of LEAs that will partner in the development and implementation of two or more community schools in each LEA, with the exception of LEAs that oversee a single school. The roles and responsibilities of the steering committee must be included in the required preliminary MOU.

As outlined in section 4622(1)(B) of the ESEA, an eligible entity for any FSCS grant is a consortium of one or more LEAs or the BIE and one or more community-based organizations, nonprofit organizations, or other public or private entities.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This document does not preclude us from proposing additional priorities, requirements, definitions, or selection criteria, subject to meeting applicable rulemaking requirements.

Note: This document does not solicit applications. In any year in which we choose to use one or more of these priorities, we invite applications through a notice in the Federal Register.

Final Requirements:

This document contains three final requirements.

Requirement 1—Pillars of Full-Service Community Schools.

An applicant must, in addition to providing the information and assurances required by section 4625(a) of the ESEA, provide the following:

In addressing the application requirements set out in Section 4625(a) of the ESEA, applicants must address the essential pillars of full-service community schools (as defined in this notice).

Projects must describe the pillars of full-service community schools that they have in place or how they will establish these pillars, or how they will implement these pillars with partners, including community-based organizations and collaborating with school leadership and staff.

Requirement 2—Independent Evaluation.

An applicant must, in addition to providing the information and assurances required by section 4625(g) of the ESEA, commit to an independent evaluation that includes a design and implementation evaluation that will, at a minimum, (1) include annual evaluations of progress achieved with the grant; (2) be used to refine and improve activities carried out through the grant; (3) collect and report data that includes, but is not limited to, the following indicators: student chronic absenteeism rates; student discipline rates, including suspensions and expulsions; school climate information, which may come from student, parent, or teacher surveys; provision of integrated student supports and stakeholder services; expanded and enriched learning time and opportunities; family and community engagement efforts and impact; information on the number, qualifications, and retention of school staff, including the number and percentage of fully certified teachers, disaggregated by race and ethnicity, rates of teacher turnover, and teacher experience; graduation rates; changes in school spending information; collaborative leadership and practice strategies, which may include building the capacity of educators, principals, other school leaders, and other staff to lead collaborative school improvement structures, such as professional learning communities; regularly convening or engaging all initiative-level partners, such as LEA representatives, city or county officials, children's and youth's cabinets, nonprofit service providers, public housing agencies, and advocates; regularly assessing program quality and progress through individual student data, participant feedback, and aggregate outcomes to develop strategies for improvement; and organizing school personnel and community partners into working teams focused on specific issues identified in the needs and assets assessment; and (4) make results of the evaluation publicly available.

Requirement 3—Preliminary and Final Memoranda of Understanding.

An applicant must, in addition to providing the information and assurances required in Section 4625(a)(2) of the ESEA, provide the following:

In addressing the application requirements set out in Section 4625(a)(2) of the ESEA, applicants must include a preliminary MOU among all partner entities of the eligible entity, identified at the time of the application, that will assist the eligible entity to plan, develop, coordinate, provide, and evaluate pipeline services and that describes the roles and responsibilities that the partners, including the broadly representative consortium, will assume. Applications submitted under Priority 3 FSCS State Scaling Grants must also include in the preliminary MOU a description of the State steering committee and the SEA's commitment to and partnership in the consortium, including the roles, responsibilities, and commitment of the SEA to the partnership and the scaling of full-service community schools to a percentage of State LEAs implementing schoolwide Title IA programs and where there is a commitment to sustain the program beyond two years after the term of the grant.

Grantees must submit a final MOU at the end of their first year of the grant.

Final Definitions:

This document includes four final definitions. We may apply these definitions in any year in which this program is in effect. We also intend to use definitions from sections 4622 and 8101 of the ESEA.

Broadly representative consortium means stakeholders representing broad groups of people working together for the best interest of children; such stakeholders may include, but are not limited to, families and family leadership, schools, nonprofits, government, philanthropy, and the business community.

Full-service community school coordinator means an individual in a full-time position at each community school who serves to plan, integrate, coordinate, and facilitate the delivery of pipeline services at each school. The coordinator may also lead the school and community assessment of needs and assets and identify ways to sustain the services and partnerships beyond the duration of the grant.

History of effectiveness means an eligible entity demonstrating the ability to successfully implement programs and policies. Such programs and policies must include, but shall not be limited to, successfully implementing with other organizations grants, policies, and programs for students from high need schools (as defined in ESEA section 2221).

Pillars of Full-Service Community Schools means all of the following:

(A) Integrated student supports at a community school that provide in- and out-of-school support for students, address well-being, and address out-of-school barriers to learning through partnerships with social and health service agencies, including mental and behavioral health agencies and providers, and coordinated by a community school coordinator, which may include—

(i) Medical, dental, vision care, and mental and behavioral health services, including mental health literacy for students and staff, and trauma-informed services to prevent, intervene, and mitigate adverse childhood experiences (ACEs); and

(ii) Individuals to assist with housing, transportation, nutrition, citizenship preparation, or criminal justice issues and other services.

(B) Expanded and enriched learning time and opportunities, through evidence-based strategies, including before-school, after-school, during-school, weekend, and summer programs that provide additional academic instruction individualized academic support (such as evidence-based tutoring, post-secondary transition support, student success coaches and mentoring programs), enrichment activities, or learning opportunities, for students at a community school that—

(i) May emphasize real-world project-based learning where students can apply their learning to contexts that are relevant and engaging; and

(ii) May include art, music, drama, creative writing, hands-on experience with engineering or science (including computer science), career and technical education, tutoring that is aligned with classroom success and homework help, and recreational programs that enhance and are consistent with the school's curriculum.

(C) Active family and community engagement that—

(i) Brings parents and families of students at the community school and community members and leaders into the school as partners in students' education, including meaningfully involving parents and families in the community school's decision-making processes;

(ii) Makes the community school a hub for services, activities, and programs, for students, families, and members of the neighborhood that the community school serves;

(iii) Provides adults with desired educational and employment opportunities and other supportive services; and

(iv) Provides centralized supports for families and communities in community schools, which may include English as a second language classes, citizenship preparation, computer skills, art, housing assistance, child abuse and neglect prevention supports, health and mental health literacy programs, digital literacy training, or other programs that bring community members into a school building for meetings, events, or programming.

(D) Collaborative leadership and practices that build a culture of professional learning, collective trust, and shared responsibility for each community school using strategies that—

(i) At a minimum, include a school-based leadership team with representation of student, parent, and family leaders and a community voice; a community school coordinator; and a community-wide leadership team; and

(ii) May include other leadership or governance teams, community school steering committees, or other community coalitions, educator learning communities, and other staff to manage the multiple, complex joint work of school and community organizations.

Final Selection Criteria

The Department may apply one or more of the following final selection criteria in any year in which the program is in effect. We will announce the maximum possible points assigned to each criterion in the NIA. The Department may include additional selection criteria from 34 CFR 75.210.

(a) The extent to which the proposed project will provide support, resources, and services; close gaps in educational opportunity; or otherwise address the needs of the targeted population, including addressing the needs of underserved populations most impacted by the issue, challenge, or opportunity to be addressed by the proposed project.

(b) The extent to which the design of the proposed project reflects relevant and evidence-based findings from existing literature and includes a high-quality plan for project implementation integrating the four pillars of full-service community schools and the use of appropriate evaluation methods to ensure successful achievement of project objectives.

(c) The extent to which the applicant will ensure that a diversity of perspectives is brought to bear in the design and operation of the proposed project, including those of students, youth, families, educators and staff, beneficiaries of services, school leadership, and community leadership.

(d) The extent to which the grantee has plans for a full-time coordinator at each school, including a plan to sustain the position beyond the grant period, and a description of how this position will serve to plan, integrate, coordinate, and facilitate programs and services at each school.

(e) The extent to which the grantee has, or demonstrates a strong plan to have, a broadly representative consortium that reflects the needs of the community and its stakeholders, and a description of the roles and responsibilities of the broadly representative consortium outlined in the required preliminary MOU.

(f) The extent to which the applicant demonstrates a history of effectiveness in working with a diverse range of stakeholders, including students and families.

(g) The extent to which the applicant demonstrates its commitment and strategy to scale full-service community schools at the statewide level. In determining the applicant's capacity to scale the proposed project, the Secretary considers the number and percentage of LEAs, and the number and percentage of schools within each LEA, the applicant, the SEA, and other partners propose to serve; the applicant's capacity (e.g., in terms of qualified personnel, financial resources, or management capacity) to further develop, implement, bring to scale and sustain additional full-service community schools in multiple LEAs; and the applicant's capacity to work with others, including the broadly representative consortium and the State steering committee, to ensure that the proposed process, products, strategies, or practices can be further developed and brought to scale, based on the regular findings of the proposed project and its independent evaluation.

Executive Orders 12866 and 13563

Regulatory Impact Analysis

Under Executive Order 12866, the Office of Management and Budget (OMB) must determine whether this regulatory action is “significant” and, therefore, subject to the requirements of the Executive Order and subject to review by OMB. Section 3(f) of Executive Order 12866 defines a “significant regulatory action” as an action likely to result in a rule that may—

(1) Have an annual effect on the economy of $100 million or more, or adversely affect a sector of the economy, productivity, competition, jobs, the environment, public health or safety, or State, local, or Tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive Order.

This final regulatory action is not a significant regulatory action subject to review by OMB under section 3(f) of Executive Order 12866. Pursuant to the Congressional Review Act (5 U.S.C. 801 et seq.), the Office of Information and Regulatory Affairs designated this rule as not a “major rule,” as defined by 5 U.S.C. 804(2).

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these final priorities, requirements, definitions, and selection criteria only on a reasoned determination that the benefits justify the costs. In choosing among alternative regulatory approaches, we selected those approaches that maximize net benefits. Based on the analysis that follows, the Department believes that this regulatory action is consistent with the principles in Executive Order 13563.

We also have determined that this regulatory action does not unduly interfere with State, local, and Tribal governments in the exercise of their governmental functions.

In accordance with these Executive orders, the Department has assessed the potential costs and benefits, both quantitative and qualitative, of this regulatory action. The potential costs are those resulting from statutory requirements and those we have determined as necessary for administering the Department's programs and activities.

Summary of Costs and Benefits: The Department believes that these final priorities, requirements, definitions, and selection criteria will not impose significant costs on the entities eligible to apply for FSCS. We also believe that the benefits of implementing the final priorities, requirements, definitions, and selection criteria justify any associated costs.

The potential costs are those resulting from statutory requirements and those we have determined as necessary for administering the Department's programs and activities.

Priority 1 gives the Department the opportunity to offer applicants time and resources to build the capacity required to develop two or more successful full-service community schools.

Priority 2 gives the Department the opportunity to offer applicants funding to implement and sustain full-service community schools in two or more LEAs, with a minimum of two full-service community schools in each LEA.

Priority 3 gives the Department the opportunity to offer applicants funding to scale the implementation of full-service community schools at the State level, in a percentage of LEAs in the State as determined by the applicant, the SEA, and other partners, with a minimum of two full-service-community schools in each LEA. Implementation of community schools at this scale offers the opportunity for States to enact legislation and develop funding streams to support the expansion and sustainability of full-service community schools in their State.

Priority 4 gives the Department the opportunity to ensure that funds are targeted to reach the schools and communities of greatest need.

Because these final priorities, requirements, definitions, and selection criteria would neither expand nor restrict the universe of eligible entities for any Department grant program, and since application submission and participation in our discretionary grant programs is voluntary, there are no costs associated with these priorities, requirements, definitions, and selection criteria.

Regulatory Flexibility Act Certification: The Secretary certifies that this final regulatory action will not have a significant economic impact on a substantial number of small entities. The U.S. Small Business Administration Size Standards define “small entities” as for-profit or nonprofit institutions with total annual revenue below $7,000,000 or, if they are institutions controlled by small governmental jurisdictions (that are comprised of cities, counties, towns, townships, villages, school districts, or special districts), with a population of less than 50,000.

The small entities that this regulatory action will affect are public or private nonprofit agencies and organizations, including institutions of higher education, that may apply. We believe that the costs imposed on an applicant by the final priorities, requirements, definitions, and selection criteria will be limited to paperwork burden related to preparing an application and that the benefits of implementing these final priorities, requirements, definitions, and selection criteria will outweigh any costs incurred by the applicant. Therefore, we do not believe that the final priorities, requirements, definitions, and selection criteria will significantly impact small entities beyond the potential for receiving additional support should the small entity receive a competitive grant from the Department.

Paperwork Reduction Act of 1995

As part of its continuing effort to reduce paperwork and respondent burden, the Department provides the general public and Federal agencies with an opportunity to comment on proposed and continuing collections of information, in accordance with the Paperwork Reduction Act of 1995 (PRA) (44 U.S.C. 3506(c)(2)(A)). This helps ensure that: The public understands the Department's collection instructions, respondents can provide the requested data in the desired format, reporting burden (time and financial resources) is minimized, collection instruments are clearly understood, and the Department can properly assess the impact of collection requirements on respondents.

The final priorities, requirements, definitions, and selection criteria contain information collection requirements that are approved by OMB under OMB control number 1894-0006.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: On request to the contact person listed under FOR FURTHER INFORMATION CONTACT, individuals with disabilities can obtain this document in an accessible format. The Department will provide the requestor with an accessible format that may include Rich Text Format (RTF) or text format, a thumb drive, an MP3 file, braille, large print, audiotape, or compact disc or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Ruth E. Ryder,
Deputy Assistant Secretary for Policy and Programs Office of Elementary and Secondary Education.

[FR Doc. 2022-15090 Filed 7-12-22; 8:45 am]

BILLING CODE 4000-01-P